DEPARTMENT OF TRANSPORTATION

Federal Railroad Administration

Waiver Extension Request

In accordance with Title 49 of the Code of Federal Regulations (CFR), Sections 211.9 and 211.41, notice is hereby given that the Federal Railroad Administration (FRA) has received a request for an extension of a waiver of compliance from certain requirements of Federal railroad safety regulations. The individual petition is described below, including the parties seeking relief, the regulatory provisions involved, the nature of the relief being requested, and the petitioner's arguments in favor of relief.

Alaska Railroad Corporation

[Docket Number FRA-2006-26029]

As part of the request for extension of limited field testing submitted February 8, 2010 (Docket FRA-2006-26029), a petition of regulatory relief from 49 CFR 217.9 (Program of Operational Tests and Inspections—Recordkeeping), 49 CFR 217.11 (Program of Instruction on Operating Rules—Recordkeeping, Electronic Recordkeeping), 49 CFR part 218 [subpart D] (Prohibition against tampering with safety devices), 49 CFR 229.7 (Prohibited Acts), 49 CFR 229.135 (Event recorders), 49 CFR 233.9 (Reports), 49 CFR 235.5 (Changes requiring filing of application), 49 CFR 240.127 (Criteria for examining Skill Performance), and 49 CFR 240.129 (Criteria for Monitoring Operational Performance of Certified Engineers) is requested by the Alaska Railroad Corporation (ARRC) for testing related to the Collision Avoidance System (CAS) on the Alaska Subdivision, from Seward to Fairbanks, and the Whittier Subdivision, from Whittier to Portage.

The regulatory relief requested is only for CAS related equipment and testing, commencing in the summer of 2011, for a period of 39 months, or approval of a Positive Train Control Safety Plan for CAS. The request for regulatory relief will not apply to non-CAS equipment and operations. Details of the specific relief requested and the associated rationale are specified in the ARRC letter of February 8, 2010 (Docket-FRA-2006-26029). FRA will accept comments for regulatory relief of these requirements.

As part of the same request for extension of limited field testing, ARRC also requests relief from various parts of 49 CFR part 236, subparts A-G. FRA will independently impose appropriate conditions necessary for the safety of train operations regarding such exemptions.

Interested parties are invited to participate in this safety review by providing written information or comments pertinent to FRA's consideration of the above request for waiver of compliance. All communications concerning this petition should identify the appropriate docket number (Docket Number FRA-2006-26029) and may be submitted by one of the following methods:

• Web site: http://regulations.gov. Follow the instructions for submitting comments on the DOT electronic docket site.

• Mail: Docket Management Facility, U.S. Department of Transportation, 1200 New Jersey Ave., SE., Room W12-140, Washington, DC 20590.

• Hand Delivery: Room W12-140 U.S. Department of Transportation Building, 1200 New Jersey Ave., SE., Room W12-140, Washington, DC, between 9 a.m. and 5 p.m., Monday through Friday, except Federal Holidays.

Communication received within 30 days of the date of this notice will be considered by FRA prior to final action being taken. Comments received after that date will be considered to the extent practicable. All written communications concerning these proceedings are available for examination during regular business hours (9 a.m.-5 p.m.) at the above facility. All documents in the public docket are also available for inspection and copying on the internet at the docket facility's Web site at http://regulations.gov.

Anyone is able to search the electronic form of all the comments received into any of our dockets by name of the individual submitting the comment (or signing the comment on behalf of an association, business, labor union, etc.). You may review the DOT's complete Privacy Act Statement in the Federal Register published on April 11, 2000 (Volume 65, Number 70; Pages 19477-78) or at http://dot.gov/privacy.html.

Issued in Washington, DC, on April 12, 2010.
Grady C. Cothen, Jr.,
Deputy Associate Administrator for Safety Standards and Program Development.

[FR Doc. 2010-8695 Filed 4-15-10; 8:45 am]

BILLING CODE 4910-06-P